DEPARTMENT OF LABOR

Employment and Training Administration

[TA-W-51,622]

Casco Products, Inc., Bridgeport, CT; Notice of Termination of Investigation

Pursuant to section 221 of the Trade Act of 1974, as amended, an investigation was initiated on April 29, 2003 in response to a worker petition filed by the IUE/CWA on behalf of workers at Casco Products, Inc., Bridgeport, Connecticut.

The petitioning group of workers is covered by an active certification issued on July 19, 2002 (TA-W-41,561). Consequently, further investigation in this case would serve no purpose and the investigation has been terminated.

Signed at Washington, DC, this 30th day of April, 2003.
Richard Church,
Certifying Officer, Division of Trade Adjustment Assistance.

[FR Doc. 03-11560 Filed 5-8-03; 8:45 am]

BILLING CODE 4510-30-P